DEPARTMENT OF AGRICULTURE

Animal and Plant Health Inspection Service

[Docket No. APHIS-2011-0044]

Bovine Tuberculosis and Brucellosis; Public Meetings

AGENCY: Animal and Plant Health Inspection Service, USDA.

ACTION: Notice of public meetings.

SUMMARY: This is to inform the public of upcoming meetings in Lansing, MI, Atlanta, GA, Bozeman, MT, and Amarillo, TX, to provide an opportunity for stakeholders to offer their input on a new framework being developed for the bovine tuberculosis and brucellosis programs in the United States. The meetings are being organized by the Animal and Plant Health Inspection Service.

DATES: The meetings will be held on May 19, May 24, June 1, and June 6, 2011, from 8 a.m. to 4 p.m. (local time) each day. Registration for each meeting will begin at 7:30 a.m.

ADDRESSES: The public meeting on May 19, 2011, will be held at the Causeway Bay Hotel and Convention Center, 6820 South Cedar Street, Lansing, MI. The public meeting on May 24, 2011, will be held at the Renaissance Concourse Atlanta Airport Hotel, 1 Hartsfield Center Parkway, Atlanta, GA. The public meeting on June 1, 2011, will be held at the Holiday Inn Bozeman Airport, 5 East Baxter Lane, Bozeman, MT. The public meeting on June 6, 2011, will be held at the Holiday Inn Airport, 1911 I-40 East, Ext. 71 and Ross-Osage, Amarillo, TX.

FOR FURTHER INFORMATION CONTACT: Dr. Lee Ann Thomas, Director, Ruminant Health Programs, National Center for Animal Health Programs, VS, APHIS, 4700 River Road Unit 43, Riverdale, MD 20737, (301) 734-5256.

SUPPLEMENTARY INFORMATION: The U.S. Department of Agriculture (USDA) is currently developing proposed revisions to its programs regarding bovine tuberculosis (TB) and bovine brucellosis in the United States. In keeping with its commitment to partnering with States, Tribal Nations, and industry in identifying appropriate changes to the two programs, USDA is planning to host four public meetings to discuss potential changes to these programs. The meetings will take place in Lansing, MI, Atlanta, GA, Bozeman, MT, and Amarillo, TX, on May 19, May 24, June 1, and June 6, 2011, respectively (see ADDRESSES).

Topics to be discussed at the meetings are contained in a TB and brucellosis regulatory framework developed jointly by USDA and State and Tribal representatives, and include:

1. Program (State) requirements;

2. Surveillance;

3. Zoning;

4. Affected herd management and epidemiological investigations;

5. Importation of animals;

6. Indemnity;

7. Interstate movement requirements; and

8 Approval of diagnostic tests and laboratories.

The regulatory framework will be available as of May 5, 2011, on the Regulations.gov Web site (see link below) and on the APHIS Web site at http://www.aphis.usda.gov/animal_health/tb_bruc/meetings.html.

Due to time constraints, public discussion at each meeting will be limited. Written statements on meeting topics may be filed with USDA through June 20, 2011, via the Federal eRulemaking Portal at http://www.regulations.gov/fdmspublic/component/main?main=DocketDetail&d=APHIS-2011-0044 or by sending them to the person listed under FOR FURTHER INFORMATION CONTACT. Written statements may also be filed at the meetings. Please refer to Docket No. APHIS-2011-0044 when submitting your statements.

Done in Washington, DC, this 3rd day of May 2011.
Gregory L. Parham,
Administrator, Animal and Plant Health Inspection Service.

[FR Doc. 2011-11111 Filed 5-5-11; 8:45 am]

BILLING CODE 3410-34-P